DEPARTMENT OF AGRICULTURE

Food Safety and Inspection Service

[Docket No. FSIS-2015-0010]

International Standard-Setting Activities

AGENCY: Office of Food Safety, USDA.

ACTION: Notice.

SUMMARY: This notice informs the public of the sanitary and phytosanitary standard-setting activities of the Codex Alimentarius Commission (Codex), in accordance with section 491 of the Trade Agreements Act of 1979, as amended, and the Uruguay Round Agreements Act. This notice also provides a list of other standard-setting activities of Codex, including commodity standards, guidelines, codes of practice, and revised texts. This notice, which covers Codex activities during the time periods from June 1, 2014, to May 31, 2015, and June 1, 2015, to May 31, 2016, seeks comments on standards under consideration and recommendations for new standards.

ADDRESSES: FSIS invites interested persons to submit comments on this notice. Comments may be submitted by one of the following methods:

• Federal eRulemaking Portal: This Web site provides the ability to type short comments directly into the comment field on this Web page or attach a file for lengthier comments. Go to http://www.regulations.gov. Follow the on-line instructions at that site for submitting comments.

• Mail, including CD-ROMs, etc.: Send to U.S. Department of Agriculture (USDA), FSIS, 1400 Independence Avenue SW., Mailstop 3782, Room 8-163B, Washington, DC 20250-3700.

• Hand- or courier-delivered items: Deliver to OPPD, RIMS, Docket Clearance Unit, Patriots Plaza 3, 355 E Street SW., Room 8-164, Washington, DC 20250-3700.

Instructions: All items submitted by mail or electronic mail must include the Agency name and docket number FSIS-2015-0010. Comments received in response to this docket will be made available for public inspection and posted without change, including any personal information, to http://www.regulations.gov.

Please state that your comments refer to Codex and, if your comments relate to specific Codex committees, please identify the committee(s) in your comments and submit a copy of your comments to the delegate from that particular committee.

Docket: For access to background documents or comments received, visit the FSIS Docket Room at Patriots Plaza 3, 355 E Street SW., Room 8-164, Washington, DC 20250-3700, between 8:00 a.m. and 4:30 p.m., Monday through Friday. A complete list of U.S. delegates and alternate delegates can be found in Attachment 2 of this notice.

FOR FURTHER INFORMATION CONTACT: Mary Frances Lowe, United States Manager for Codex, U.S. Department of Agriculture, Office of Food Safety, Room 4861, South Agriculture Building, 1400 Independence Avenue SW., Washington, DC 20250-3700; telephone: (202) 205-7760; fax: (202) 720-3157; email: USCodex@fsis.usda.gov.

For information pertaining to particular committees, contact the delegate of that committee. Documents pertaining to Codex and specific committee agendas are accessible via the Internet at http://www.codexalimentarius.org/meetings-reports/en/. The U.S. Codex Office also maintains a Web site at http://www.fsis.usda.gov/wps/portal/fsis/topics/international-affairs/us-codex-alimentarius.

SUPPLEMENTARY INFORMATION:

Background

The World Trade Organization (WTO) was established on January 1, 1995, as the common international institutional framework for the conduct of trade relations among its members in matters related to the Uruguay Round Trade Agreements. The WTO is the successor organization to the General Agreement on Tariffs and Trade (GATT). United States membership in the WTO was approved and the Uruguay Round Agreements Act (Uruguay Round Agreements) was signed into law by the President on December 8, 1994, Public Law 103-465, 108 Stat. 4809. The Uruguay Round Agreements became effective, with respect to the United States, on January 1, 1995. The Uruguay Round Agreements amended the Trade Agreements Act of 1979. Pursuant to section 491 of the Trade Agreements Act of 1979, as amended, the President is required to designate an agency to be “responsible for informing the public of the sanitary and phytosanitary (SPS) standard-setting activities of each international standard-setting organization.” (19 U.S. C. 2578) The main international standard-setting organizations are Codex, the World Organisation for Animal Health, and the International Plant Protection Convention. The President, pursuant to Proclamation No. 6780 of March 23, 1995 (60 FR 15845), designated the U.S. Department of Agriculture as the agency responsible for informing the public of the SPS standard-setting activities of each international standard-setting organization. The Secretary of Agriculture has delegated to the Office of Food Safety the responsibility to inform the public of the SPS standard-setting activities of Codex. The Office of Food Safety has, in turn, assigned the responsibility for informing the public of the SPS standard-setting activities of Codex to the U.S. Codex Office.

Codex was created in 1963 by two United Nations organizations, the Food and Agriculture Organization (FAO) and the World Health Organization (WHO). Codex is the principal international organization for establishing standards for food. Through adoption of food standards, codes of practice, and other guidelines developed by its committees and by promoting their adoption and implementation by governments, Codex seeks to protect the health of consumers, ensure fair practices in the food trade, and promote coordination of food standards work undertaken by international governmental and nongovernmental organizations. In the United States, U.S. Codex activities are managed and carried out by the United States Department of Agriculture (USDA); the Food and Drug Administration (FDA), Department of Health and Human Services (HHS); the National Oceanic and Atmospheric Administration (NOAA), Department of Commerce (DOC); and the Environmental Protection Agency (EPA).

As the agency responsible for informing the public of the SPS standard-setting activities of Codex, the Office of Food Safety publishes this notice in the Federal Register annually. Attachment 1 (Sanitary and Phytosanitary Activities of Codex) sets forth the following information:

1. The SPS standards under consideration or planned for consideration; and

2. For each SPS standard specified:

a. A description of the consideration or planned consideration of the standard;

b. Whether the United States is participating or plans to participate in the consideration of the standard;

c. The agenda for United States participation, if any; and

d. The agency responsible for representing the United States with respect to the standard.

TO OBTAIN COPIES OF THE STANDARDS LISTED IN ATTACHMENT 1, PLEASE CONTACT THE CODEX DELEGATE OR THE U.S. CODEX OFFICE.

This notice also solicits public comment on standards that are currently under consideration or planned for consideration and recommendations for new standards. The delegate, in conjunction with the responsible agency, will take the comments received into account in participating in the consideration of the standards and in proposing matters to be considered by Codex.

The U.S. delegate will facilitate public participation in the United States Government's activities relating to Codex Alimentarius. The U.S. delegate will maintain a list of individuals, groups, and organizations that have expressed an interest in the activities of the Codex committees and will disseminate information regarding U.S. delegation activities to interested parties. This information will include the status of each agenda item; the U.S. Government's position or preliminary position on the agenda items; and the time and place of planning meetings and debriefing meetings following Codex committee sessions. In addition, the U.S. Codex Office makes much of the same information available through its Web page, http://www.fsis.usda.gov/wps/portal/fsis/topics/international-affairs/us-codex-alimentarius. If you would like to access or receive information about specific committees, please visit the Web page or notify the appropriate U.S. delegate or the U.S. Codex Office, Room 4861, South Agriculture Building, 1400 Independence Avenue SW., Washington, DC 20250-3700 (uscodex@fsis.usda.gov).

The information provided in Attachment 1 describes the status of Codex standard-setting activities by the Codex Committees for the time periods from June 1, 2014, to May 31, 2015, and June 1, 2015, to May 31, 2016. Attachment 2 provides a list of U.S. Codex Officials (including U.S. delegates and alternate delegates). A list of forthcoming Codex sessions may be found at: http://www.codexalimentarius.org/meetings-reports/en/.

Additional Public Notification

Public awareness of all segments of rulemaking and policy development is important. Consequently, FSIS will announce this Federal Register publication on-line through the FSIS Web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

Done at Washington, DC, on: June 8, 2015.
Mary Frances Lowe,
U.S. Manager for Codex Alimentarius.

Attachment 1

Sanitary and Phytosanitary Activities of Codex

Codex Alimentarius Commission and Executive Committee

The Codex Alimentarius Commission will convene for its 38th Session July 6-11, 2015, in Geneva, Switzerland. At that time, it will consider standards, codes of practice, and related matters forwarded to the Commission by the general subject committees, commodity committees, and regional coordinating committees for adoption as Codex standards and guidance. The Commission will also consider the implementation status of the Codex Strategic Plan, the management of the Trust Fund for the Participation of Developing Countries and Countries in Transition in the work of the Codex Alimentarius and a proposal for a successor initiative to the Trust Fund, papers prepared by the Secretariat on Codex Work Management and Functioning of the Executive Committee and Revitalization of the FAO/WHO Coordinating Committees, as well as financial and budgetary issues.

Prior to the Commission meeting, the Executive Committee will meet at its 17th Session, June 30-July 3, 2015. It is composed of the chairperson; vice-chairpersons; seven members elected from the Commission from each of the following geographic regions: Africa, Asia, Europe, Latin America and the Caribbean, Near East, North America, and South-West Pacific; and regional coordinators from the six regional committees. Canada is the elected representative from North America; the United States will participate as an advisor. The Executive Committee will conduct a critical review of the elaboration of Codex standards and will consider the implementation status of the Codex Strategic Plan, the management of the Trust Fund for the Participation of Developing Countries and Countries in Transition in the Work of the Codex Alimentarius and a proposal for a successor initiative to the Trust Fund, papers prepared by the Secretariat on Codex Work Management and Functioning of the Executive Committee and Revitalization of the FAO/WHO Coordinating Committees, as well as financial and budgetary issues.

Responsible Agency: USDA/FSIS.

U.S. Participation: Yes.

Codex Committee on Residues of Veterinary Drugs in Foods

The Codex Committee on Residues of Veterinary Drugs in Foods (CCRVDF) determines priorities for the consideration of residues of veterinary drugs in foods and recommends Maximum Residue Limits (MRLs) for veterinary drugs. The Committee also develops codes of practice, as may be required, and considers methods of sampling and analysis for the determination of veterinary drug residues in food. A veterinary drug is defined as any substance applied or administered to any food producing animal, such as meat or milk producing animals, poultry, fish or bees, whether used for therapeutic, prophylactic or diagnostic purposes, or for modification of physiological functions or behavior.

A Codex Maximum Residue Limit (MRL) for residues of veterinary drugs is the maximum concentration of residue resulting from the use of a veterinary drug (expressed in mg/kg or ug/kg on a fresh weight basis) that is recommended by the Codex Alimentarius Commission to be permitted or recognized as acceptable in or on a food. Residues of a veterinary drug include the parent compounds or their metabolites in any edible portion of the animal product, and include residues of associated impurities of the veterinary drug concerned. An MRL is based on the type and amount of residue considered to be without any toxicological hazard for human health as expressed by the Acceptable Daily Intake (ADI) or on the basis of a temporary ADI that utilizes an additional safety factor. The MRL also takes into account other relative public health risks as well as food technological aspects.

When establishing an MRL, consideration is also given to residues that occur in food of plant origin or the environment. Furthermore, the MRL may be reduced to be consistent with official recommended or authorized usage, approved by national authorities, of the veterinary drugs under practical conditions.

An Acceptable Daily Intake (ADI) is an estimate made by the Joint FAO/WHO Expert Committee on Food Additives (JECFA) of the amount of a veterinary drug, expressed on a body weight basis, which can be ingested daily in food over a lifetime without appreciable health risk.

The Committee met for its 22nd Session in San José, Costa Rica, from April 27-May 1, 2015. The relevant document is REP15/RVDF. The following items are to be considered for adoption by the 38th Session of the Commission in July 2015:

To be considered for approval:

• Priority List of veterinary drugs requiring evaluation or re-evaluation by JECFA

To be considered at Step 5/8:

• Proposed draft MRLs for derquantel (sheep tissues), emamectin benzoate (salmon and trout tissues) and monepantel (sheep tissues) recommended by the 78th JECFA (2013)

• Proposed draft Risk Management Recommendations (RMRs) for dimetridazole, ipronidazole, metronidazole, and ronidazole

The Committee will continue working on:

• Draft RMR for gentian violet

• Proposed draft MRLs for ivermectin (cattle muscle) and lasalocid sodium (chicken, turkey, quail and pheasant tissues)

• Discussion paper on the establishment of a rating system to establish priority for CCRVDF work (eWG chaired by France)

• Discussion paper on unintended presence of residues of veterinary drugs in food commodities resulting from the carry-over of drug residues into feed (eWG chaired by the United States and co-chaired by Canada)

• Global survey to provide information to the CCRVDF to move compounds from the database on countries needs for MRLs to the JECFA Priority List (eWG co-chaired by the United States and Costa Rica)

• Database on countries needs for MRLs

The Committee recommended that work on the following items be considered for discontinuation:

• Proposed draft MRLs for derquantel (sheep tissues), and monepantel (sheep tissues) recommendations of the 75th JECFA (2011)

• Draft provisions on establishment of MRLs for honey (for inclusion in the Risk Analysis Principles applied by CCRVDF)

Responsible Agencies: HHS/FDA/Center for Veterinary Medicine; USDA/FSIS.

U.S. Participation: Yes.

Codex Committee on Contaminants in Foods

The Codex Committee on Contaminants in Foods (CCCF) establishes or endorses permitted maximum levels (ML) and, where necessary, revises existing guidelines levels for contaminants and naturally occurring toxicants in food and feed; prepares priority lists of contaminants and naturally occurring toxicants for risk assessment by the Joint FAO/WHO Expert Committee on Food Additives; considers and elaborates methods of analysis and sampling for the determination of contaminants and naturally occurring toxicants in food and feed; considers and elaborates standards or codes of practice for related subjects; and considers other matters assigned to it by the Commission in relation to contaminants and naturally occurring toxicants in food and feed.

The Committee convened for its 9th Session in New Delhi, India, March 16-20, 2015. The relevant document is REP15/CF. The following items are to be considered for adoption by the 38th Session of the Commission in July 2015:

To be considered for approval:

• Priority list of contaminants and naturally occurring toxicants for JECFA evaluation

To be considered for adoption at Step 8 and 5/8:

• Draft and proposed draft maximum levels for lead in fruit juices and nectars (excluding juices exclusively from berries and other small fruits), ready to drink; canned fruits (excluding berries and other small fruits); canned vegetables (excluding canned brassica, canned leafy vegetables and canned legume vegetables); berries and other small fruits (excluding cranberry, currant and elderberry); cranberry; currant; elderberry; brassica vegetables; legume vegetables; fruiting vegetables, cucurbits; fruiting vegetables, other than cucurbits (excluding fungi and mushrooms)

To be considered for adoption at Step 8:

• Draft maximum levels for deoxynivalenol (DON) in cereal-based foods for infants and young children; in flour, meal, semolina and flakes derived from wheat, maize or barley; and in cereal grains (wheat, maize and barley) destined for further processing, including sampling plans and performance criteria for methods of analysis

To be considered for adoption at Step 5:

• Proposed draft maximum level for inorganic arsenic in husked rice

• Proposed draft revision of the Code of Practice for the Prevention and Reduction of Mycotoxin Contamination in Cereals (CAC/RCP 51-2003)

The Committee will continue working on:

• Proposed draft maximum level for total aflatoxins in ready to eat peanuts including sampling plan

• Proposed draft maximum levels for lead in selected fruits and vegetables (fresh and processed)

• Proposed draft maximum level for cadmium in chocolate and cocoa-derived products

• Proposed draft Code of Practice for the Prevention and Reduction of Arsenic Contamination in Rice

• Proposed draft annexes to the Code of Practice for the Prevention and Reduction of Mycotoxin Contamination in Cereals (CAC/RCP 51-2003)

• Proposed draft Code of Practice for the Prevention and Reduction of Mycotoxin Contamination in Spices

• Ergot Alkaloids

• Maximum levels for Methylmercury in fish

• Maximum levels for mycotoxins in spices

• Priority list of contaminants and naturally occurring toxicants proposed for evaluation by JECFA

• Submission and use of data from Global Environment Monitoring Systems/Food

• Approaches for phasing-in of lower maximum levels for contaminants

• Radionuclides in foods

Responsible Agencies: HHS/FDA; USDA/FSIS.

U.S. Participation: Yes.

Codex Committee on Food Additives

The Codex Committee on Food Additives (CCFA) establishes or endorses acceptable maximum levels (MLs) for individual food additives; prepares a priority list of food additives for risk assessment by the Joint FAO/WHO Expert Committee on Food Additives (JECFA); assigns functional classes to individual food additives; recommends specifications of identity and purity for food additives for adoption by the Codex Alimentarius Commission; considers methods of analysis for the determination of additives in food; and considers and elaborates standards or codes of practice for related subjects such as the labeling of food additives when sold as such. The 47th Session of the Committee met in Xi'an, China, March 23-27, 2015. The relevant document is REP15/FA. Immediately prior to the Plenary Session, there was a two-day physical Working Group on the General Standard for Food Additives (GSFA) chaired by the United States. The following items will be considered by the 38th Session of the Commission in July 2015:

To be considered for approval:

• Proposal for additions and changes to the priority-list of substances proposed for evaluation by JECFA

To be considered for adoption:

• Revised food additives section of the Standard for Bouillons and Consommés (Codex Stan 117-1981)

• Revised food additives provisions of GSFA food category 12.5 (Soups and broths) and its sub-categories

• Corrections to food additive provisions of GSFA related to the alignments of the five meat commodity standards

To be considered at Step 8 and 5/8:

• Draft and proposed draft food additive provisions of the GSFA

To be considered at Step 5/8:

• Proposed draft Specifications for the Identity and Purity of Food Additives

• Proposed draft amendments to the International Numbering System (INS) for Food Additives (CAC/GL 36-1989)

The Committee will continue working on:

• Proposed draft food additive provisions of the GSFA

○ Information and justification on the use of nisin (INS 234) in food category 08.3.2 (Heat-treated processed comminuted meat, poultry, and game products) in general, and specifically in products conforming to the corresponding commodity standards (electronic Working Group (eWG) led by the United States)

○ Outstanding food additive provisions in Table 1 and 2 in food categories 01.2 through 08.4, with the exclusion of food categories 04.1.2.4, 04.2.2.4, 04.2.2.5, 04.2.2.6, 05.1.1, 05.1.3 and 05.1.4 (from the 47th CCFA, Agenda Item 5(c))

• Proposed draft revision of the food category 01.1 (Milk and dairy-based drinks) and its sub-categories of the GSFA (eWG led by New Zealand)

• Alignment of the food additive provisions of commodity standards and relevant provisions of the GSFA (eWG led by Australia and the United States)

• Discussion paper of the use of specific food additives in the production of wine (eWG led by France and Australia)

• Discussion paper on secondary additives (eWG led by the European Union)

• Proposed draft revision of Sections 4.1.c and 5.1.c of the General Standard for the Labeling of Food Additives When Sold as Such (CODEX STAN 107-1981) (eWG led by the United States)

• Amendments to the INS for food additives

• Specifications for the Identity and Purity of Food Additives (80th JECFA)

• Information document on the GSFA

• Information document on the food additive provisions in commodity standards

The Committee also agreed to convene a physical Working Group on the GSFA immediately preceding the 48th session of CCFA to be chaired by the United States that will discuss:

• Outstanding provisions related to food additive provisions in Table 1 and 2 in food categories 01.2 through 08.4, information and justification on the use of nisin (INS 234) in food category 08.3.2 (Heat-treated processed comminuted meat, poultry, and game products)

• Comments submitted in response to CL 2015/9-FA on the revision of the provision for quillaia extracts (INS 999(i), (ii)) in food category 14.1.4 (Water-based flavored drinks, including “sport,” “energy,” or “electrolyte” drinks and particulate drinks

• Comments submitted in response to CL 2015/9-FA on proposals for the use of paprika extract (INS 160c(ii)) for inclusion in Tables 1 and 2 of the GSFA

• New proposals and proposed revisions of food additive provisions in the GSFA

Responsible Agency: HHS/FDA.

U.S. Participation: Yes.

Codex Committee on Pesticide Residues

The Codex Committee on Pesticide Residues (CCPR) is responsible for establishing maximum limits for pesticide residues in specific food items or in groups of food; establishing maximum limits for pesticide residues in certain animal feeding stuffs moving in international trade where this is justified for reasons of protection of human health; preparing priority lists of pesticides for evaluation by the Joint FAO/WHO Meeting on Pesticide Residues (JMPR); considering methods of sampling and analysis for the determination of pesticide residues in food and feed; considering other matters in relation to the safety of food and feed containing pesticide residues; and establishing maximum limits for environmental and industrial contaminants showing chemical or other similarity to pesticides in specific food items or groups of food.

The 47th Session of the Committee met in Beijing, China, April 13-18, 2015. The relevant document is REP15/PR. The following items will be considered at the 38th Session of the Codex Alimentarius Commission in July 2015:

To be considered for adoption:

• Guidance to Facilitate the Establishment of MRLs for Pesticides for Minor Crops including Appendix on Methodology to Assign Crops into Consumption Categories (for inclusion as an annex to the Risk Analysis Principles Applied by the Codex Committee on Pesticide Residues

To be considered for adoption at Step 5/8:

• Proposed draft MRLs for pesticides

To be considered for adoption at Step 5:

• Proposed draft MRLs for pesticides

The Committee will continue working on:

• Draft MRLs for pesticides

• Proposed draft MRLs for pesticides

• Draft revision to the Classification of Food and Feed (vegetable commodity groups: Group 015-Pulses)

• Proposed draft revision to the Classification of Food and Feed (other vegetable commodity groups: Group 014 Legume vegetables)

• Proposed draft revision to the Classification of Food and Feed:

1. Group 011—Fruiting vegetables, cucurbits

2. Group 020—Grasses of cereal grains

3. Group 021—Grasses for sugars or syrup production

4. Group 024—Seeds for beverages and sweets

• Proposed draft tables on examples of selection of representative commodities (for inclusion in the principles and guidance for the selection of representative commodities for the extrapolation of maximum residue limits for pesticides for commodity groups)

• Proposed draft Guidance on Performance Criteria for Methods of Analysis for the Determination of Pesticide Residues

• Establishment of Codex schedules and priority list of pesticides for evaluation by JMPR

• Discussion paper on the impact of the relocation of Vigna spp. under the Beans (dry) on the CXLs for Peas (dry)

Responsible Agencies: EPA; USDA/FSIS.

U.S. Participation: Yes.

Codex Committee on Methods of Analysis and Sampling

The Codex Committee on Methods of Analysis and Sampling (CCMAS) defines the criteria appropriate to Codex Methods of Analysis and Sampling; serves as a coordinating body for Codex with other international groups working on methods of analysis and sampling and quality assurance systems for laboratories; specifies, on the basis of final recommendations submitted to it by the bodies referred to above, reference methods of analysis and sampling appropriate to Codex standards which are generally applicable to a number of foods; considers, amends if necessary, and endorses as appropriate, methods of analysis and sampling proposed by Codex commodity committees, except for methods of analysis and sampling for residues of pesticides or veterinary drugs in food, the assessment of microbiological quality and safety in food, and the assessment of specifications for food additives; elaborates sampling plans and procedures, as may be required; considers specific sampling and analysis problems submitted to it by the Commission or any of its Committees; and defines procedures, protocols, guidelines or related texts for the assessment of food laboratory proficiency, as well as quality assurance systems for laboratories.

The 36th Session of the Committee met in Budapest, Hungary, February 23-27, 2015. The relevant document is REP15/MAS. The following items will be considered by the Commission at its 38th Session in July 2015:

To be considered for adoption:

• Methods of Analysis and Sampling in Codex Standards at different steps

To be considered for adoption at Step 5/8:

• Principles for the Use of Sampling and Testing in International Food Trade—Proposed Draft Explanatory Notes

The Committee will continue working on:

• Criteria for endorsement of biological methods to detect chemical of concern

• Practical Examples (Information Document)

• Procedures for determining uncertainty of measurement results

• Development of procedures/guidelines for determining equivalency to Type I methods

• Criteria approach for methods which use a “sum of components”

• Review and update of methods in Codex Stan 234-1999

• Follow-up on methods of analysis and sampling plans

• Sampling in Codex standards

Responsible Agencies: HHS/FDA; USDA/Grain Inspection, Packers and Stockyards Administration.

Codex Committee on Food Import and Export Inspection and Certification Systems

The Codex Committee on Food Import and Export Inspection and Certification Systems is responsible for developing principles and guidelines for food import and export inspection and certification systems, with a view to harmonizing methods and procedures that protect the health of consumers, ensure fair trading practices, and facilitate international trade in foodstuffs; developing principles and guidelines for the application of measures by the competent authorities of exporting and importing countries to provide assurance, where necessary, that foodstuffs comply with requirements, especially statutory health requirements; developing guidelines for the utilization, as and when appropriate, of quality assurance systems to ensure that foodstuffs conform with requirements and promote the recognition of these systems in facilitating trade in food products under bilateral/multilateral arrangements by countries; developing guidelines and criteria with respect to format, declarations, and language of such official certificates as countries may require with a view towards international harmonization; making recommendations for information exchange in relation to food import/export control; consulting as necessary with other international groups working on matters related to food inspection and certification systems; and considering other matters assigned to it by the Commission in relation to food inspection and certification systems.

The 21st Session of the Committee convened in Brisbane, Australia, October 13-17, 2014. The relevant document is REP15/FICS. There are no items to be considered for adoption by the Commission at its 38th Session in July 2015. The Committee will continue working on the following items:

• Draft principles and/or guidelines for the exchange of information (including questionnaires) between countries to support food import and export

• Draft guidance for monitoring the performance of National Food Control Systems

• Revision of the Principles and Guidelines for the Exchange of Information in Food Safety Emergency Situations (CAC/GL 19-1995)

• Revision of the Guidelines for the Exchange of Information between Countries on Rejections of Imported Food (CAC/GL 25-1997)

• Discussion paper on system comparability/equivalence

• Discussion paper on the possibilities of the use of electronic certificates by competent authorities as well as the migration to paperless certification

Responsible Agencies: USDA/FSIS; HHS/FDA.

U.S. Participation: Yes.

Codex Committee on Food Labelling

The Codex Committee on Food Labelling drafts provisions on labeling applicable to all foods; considers, amends, and endorses draft specific provisions on labeling prepared by the Codex Committees drafting standards, codes of practice, and guidelines; and studies specific labeling problems assigned by the Codex Alimentarius Commission. The Committee also studies problems associated with the advertisement of food with particular reference to claims and misleading descriptions.

The Committee met for its 42nd Session in Rome, Italy, October 21-24, 2014. The relevant document is REP15/FL. There are no items to be considered for adoption by the Commission at its 38th Session (July 2015). The Committee plans to continue work on the following items:

• Revision of the Guidelines for the Production, Processing, Labeling and Marketing of Organically Produced Foods: Organic Aquaculture

• Revision of the General Standard for the Labelling of Prepackaged Foods: Date Marking

• Discussion paper on the labelling of non-retail containers

• Discussion paper on issues related to Internet sales of food

• Proposal to revise the General Guidelines for the Use of the Term “Halal” (CAC/GL 24-1997)

Responsible Agencies: HHS/FDA; USDA/FSIS.

U.S. Participation: Yes.

Codex Committee on Food Hygiene

The Codex Committee on Food Hygiene:

• Develops basic provisions on food hygiene applicable to all food or to specific food types;

• Considers and amends or endorses provisions on food hygiene contained in Codex commodity standards and codes of practice developed by other Codex commodity committees;

• Considers specific food hygiene problems assigned to it by the Commission;

• Suggests and prioritizes areas where there is a need for microbiological risk assessment at the international level and develops questions to be addressed by the risk assessors; and

• Considers microbiological risk management matters in relation to food hygiene and in relation to FAO/WHO risk assessments.

The Committee convened for its 46th Session in Lima, Peru, November 17-21, 2014. The relevant document is REP 15/FH. The following items will be considered by the Commission at its 38th Session in July 2015:

To be considered for adoption:

• Amendments to the hygiene sections in meat commodity standards

To be considered for adoption at Step 8:

• Draft Guidelines for the Control of Trichinella spp. In Meat of Suidae

To be considered for adoption at Step 5/8:

• Proposed Draft Code of Hygienic Practice for Low-Moisture Foods

The Committee will continue working on:

• Proposed Draft Guidelines for the Control of Nontyphoidal Salmonella spp. in Beef and Pork Meat

• Proposed Draft Guidelines on the Application of General Principles of Food Hygiene to the Control of Foodborne Parasites

• Discussion paper on the need to revise the Code of Hygienic Practice for Fresh Fruits and Vegetables (CAC/RCP 53-2003)

• Discussion paper on the revision of the General Principles of Food Hygiene (CAC/RCP 1-1969) and its Hazard Analysis and Critical Control Points annex

• Proposed annexes to the Code of Hygienic Practice for Low-Moisture Foods

• New Work Proposals/Forward Work Plan

Responsible Agencies: HHS/FDA; USDA/FSIS.

U.S. Participation: Yes.

Codex Committee on Fresh Fruits and Vegetables

The Codex Committee on Fresh Fruits and Vegetables (CCFFV) is responsible for elaborating worldwide standards and codes of practice as may be appropriate for fresh fruits and vegetables; for consulting as necessary, with other international organizations in the standards development process to avoid duplication.

The 19th Session of the Committee will meet in Mexico, October 5-9, 2015. The Committee will continue discussing the following items:

• Proposed draft Standard for Ware Potato

• Proposed draft Standard for Garlic

• Proposed draft Standard for Aubergines

• Proposed draft Standard for Kiwifruit

• Proposals for new work for Codex standards for fresh fruits and vegetables

• Proposed layout for Codex standards for fresh fruits and vegetables

Responsible Agencies: USDA/AMS; HHS/FDA.

U.S. Participation: Yes.

Codex Committee on Nutrition and Foods for Special Dietary Uses

The Codex Committee on Nutrition and Foods for Special Dietary Uses (CCNFSDU) is responsible for studying nutrition issues referred to it by the Codex Alimentarius Commission. The Committee also drafts general provisions, as appropriate, on nutritional aspects of all foods and develops standards, guidelines, or related texts for foods for special dietary uses in cooperation with other committees where necessary; considers, amends if necessary, and endorses provisions on nutritional aspects proposed for inclusion in Codex standards, guidelines, and related texts.

The Committee convened for its 36th Session in Bali, Indonesia, November 24-28, 2014. The reference document is REP 15/NFSDU. The following items will be considered by the Commission at its 38th Session in July 2015:

To be considered for adoption:

• The amendments to the annex of the Guidelines on Nutrition Labelling (CAC/GL2-1985)

• Proposed draft revision of the List of Food Additives in Codex Stan 72-1981

• Proposal for inclusion of zinc citrates in the Advisory Lists of Nutrient Compounds for Use in Foods for Special Dietary Uses Intended for Infants and Young Children (CAC/GL10-1979)

• Draft amendment to the Standard for Foods for Special Dietary Use for Persons Intolerant to Gluten (Codex STAN 118-1979), to add the term “Khorasan wheat”

To be considered for adoption at Step 8:

• Draft revision of the General Principles for the Addition of Essential Nutrients to Foods

To be considered for adoption at Step 5/8:

• Proposed draft Additional or Revised Nutrient Reference Values for Labelling Purposes in the Guidelines on Nutrition Labelling (CAC/GL2-1985)

• Proposed draft Nutrient Reference Value (NRV) for Potassium in Relation to the Risk of Non-Communicable Disease (NCD)

To be recommended for discontinuation:

• Proposed draft amendment of the Standard for Processed Cereal-Based Foods for infants and Young Children (CODEX STAN 74-1981) to include a New Part B for Underweight Children

The Committee will continue working on:

• Proposed draft Additional or Revised Nutrient Reference Values for Labelling Purposes in the Guidelines on Nutrition Labelling (Vitamin A, D, E, Magnesium, Phosphorus, Chromium, Copper, Chloride & Iron)

• Review of the Standard for Follow-up Formula (Codex Stan 156-1987)

• Proposed draft definition of biofortification and/or biofortified foods

• Proposed draft NRV-NCD for EPA and DHA long chain omega-3 fatty acids

• Discussion paper on Claim for “Free” for Trans Fatty Acids

• Discussion paper on a standard for ready to use foods (RUF)

Responsible Agencies: HHS/FDA; USDA/Agricultural Research Service (ARS).

U.S. Participation: Yes.

Codex Committee on Fish and Fishery Products

The Fish and Fishery Products Committee (CCFFP) is responsible for elaborating standards for fresh, frozen and otherwise processed fish, crustaceans, and mollusks. The Committee will convene its 34th Session in Ålesund, Norway, October 19-24, 2015. The Committee will continue working on the following agenda items:

• Draft Code of Practice for Processing of Fish Sauce

• Proposed draft Code of Practice on the Processing of Fresh and Quick Frozen Raw Scallop Products (section on sturgeon caviar)

• Proposed food additive provisions in the Standard for Fish and Fishery Products

• Discussion paper on Nitrogen Factors (amendments to section 7.4 of the Standard for Quick Frozen Fish Sticks (Fish Fingers), Fish Portions and Fish Fillets- Breaded or in Batter (Codex Stan 166-1989)

• Code of Practice for Fish and Fishery Products (optional final product requirements for commodities/appendix on Map)

• Discussion paper on histamine

Other Business and Future Work

• New work proposal on a Standard for Fresh Chilled Pirarucu Fillet or Whole Fish

• Discussion paper on the future of the Committee

Responsible Agencies: HHS/FDA; USDC/NOAA/NMFS.

U.S. Participation: Yes.

Codex Committee on Fats and Oils

The Codex Committee on Fats and Oils (CCFO) is responsible for elaborating worldwide standards for fats and oils of animal, vegetable, and marine origin, including margarine and olive oil.

The 24th session of the Committee convened in Melaka, Malaysia, February 9-13, 2015. The reference document is REP 15/FO. The following items will be considered by the Commission at its 38th Session in July 2015:

To be considered for adoption:

• Amendments to Appendix 2 “List of Acceptable Previous Cargoes” of the Code of Practice for the Storage and Transport of Edible Fats and Oils in Bulk (CAC/RCP 36-1987)

• Reference to Acceptance/Voluntary Application in Codex Standards

To be considered for adoption at Step 5:

• Proposed draft Standard for Fish Oils

The Committee will continue working on:

• Amendments to Appendix 2 “List of Acceptable Previous Cargoes” of the Code of Practice for the Storage and Transport of Edible Fats and Oils in Bulk (CAC/RCP 36-1987)

• Addition of Palm Oil with High Oleic Acid (OxG)

• Revision of Fatty Acid Composition and Other Quality Factors of Peanut Oil

• Revision of the Limit for Campesterol

• Revision of Limits of Oleic and Linoleic Acids in Sunflower Seed Oils

• Inclusion of provisions for Walnut Oil, Almond Oil, Hazelnut Oil, Pistachio Oil, Flaxseed Oil, and Avocado Oil

• Replacement of Acid Value with Free Fatty Acids for Virgin Palm Oils

• Inclusion of Quality Parameters for Crude Rice Bran Oil

• Discussion paper on the amendment of the Standard for Named Animal Fats (Codex Stan 211-1999) Inclusion of Unrefined Edible Tallow

To be recommended for discontinuation:

• Inclusion of provisions for High Oleic Soybean Oil

• Inclusion of provisions for High Stearic High Oleic Acids of Sunflower Seed Oils

• Contents of delta-7-stigmastenol

• Discussion paper on the amendment of the Code of Practice for the Storage and Transport of Edible Fats and Oils in Bulk (CAC/RCP 36-1987)

• Discussion paper on the amendment of the Code of Practice for the Storage and Transport of Edible Fats and Oils in Bulk

Responsible Agencies: HHS/FDA; USDA/ARS.

U.S. Participation: Yes.

Codex Committee on Processed Fruits and Vegetables

The Codex Committee on Processed Fruits and Vegetables (CCPFV) is responsible for elaborating worldwide standards and related texts for all types of processed fruits and vegetables including but not limited to canned, dried, and frozen products, as well as fruit and vegetable juices and nectars.

The Committee convened its 27th Session in Philadelphia, Pennsylvania, September 8-12, 2014. The reference document is REP 15/PFV. The following items will be considered by the Commission at its 38th Session in July 2015:

To be considered for adoption:

• Amendments to food additive provisions in the standards for canned chestnuts and canned chestnut puree, canned bamboo shoots, canned mushrooms (certain canned vegetables), and pickled fruits and vegetables

• Amendments to food additive and packing media provisions in the Standard for Pickled Fruits and Vegetables

To be considered for adoption at Step 8:

• Draft Standard for Certain Canned Fruits (general provisions)

• Draft Annex on Canned Mangoes (draft Standard for Certain Canned Fruits

• Draft Standard for Quick Frozen Vegetables (general provisions)

To be considered for adoption at Step 5/8:

• Proposed draft Annex on Canned Pears (draft Standard for Certain Canned Fruits)

• Proposed draft Annexes for Certain Quick Frozen Vegetables: Leeks, Carrots, Corn-on the Cob, Whole Kernel Corn (draft Standard for Quick Frozen Vegetables)

• Proposed draft Standard for Ginseng Products

The Committee will continue working on:

• Proposed draft Annex on Canned Pineapples

• Proposed draft Annexes on Quick Frozen Vegetables (including methods of analysis for quick frozen vegetables)

• Status of work on the review/revision of Codex standards for processed fruits and vegetables

The Committee also agreed to forward the following items to the 47th session of CCFA for endorsement:

• Food additive provisions for canned chestnut and canned chestnut puree, canned bamboo shoots, canned mangoes and pickled fruits and vegetables for endorsement by CCFA

Responsible Agencies: USDA/Agricultural Marketing Service; HHS/FDA.

U.S. Participation: Yes.

Codex Committee on Milk and Milk Products

The Codex Committee on Milk and Milk Products (CCMMP) establishes international codes and standards concerning milk and milk products.

The Committee has been reactivated electronically to work on a standard for processed cheese. The Committee held a physical Working Group (pWG) in Brussels January 20-22, 2015.

The following items will be considered by the Commission at its 38th Session in July 2015.

To be considered for adoption at Step 5:

• Draft General Standard for Processed Cheese

The Committee will continue working on:

• Draft Standard for Whey Permeate Powder

Responsible Agencies: USDA/AMS HHS/FDA.

U.S. Participation: Yes.

Codex Committee on Sugars

The Codex Committee on Sugars (CCS) elaborates worldwide standards for all types of sugars and sugar products.

The Committee has been reactivated electronically to work on a standard for Non-Centrifugated Dehydrated Sugar Cane Juice.

The following item will be considered by the Commission at its 38th Session in July 2015.

To be considered for adoption:

• Draft Standard for Non-Centrifugated Dehydrated Sugar Cane Juice at Step 8.

The Committee will continue working on:

• No additional work is ongoing in this Committee. It will again be adjourned sine die once the work on the Standard for Non-Centrifugated Dehydrated Sugar Cane Juice has been adopted

Responsible Agencies: HHS/FDA.

U.S. Participation: Yes.

Certain Codex Commodity Committees

Several Codex Alimentarius Commodity Committees have adjourned sine die. The following Committees fall into this category:

• Cereals, Pulses and Legumes

Responsible Agency: HHS/FDA.

U.S. Participation: Yes.

• Cocoa Products and Chocolate

Responsible Agency: HHS/FDA.

U.S. Participation: Yes.

• Meat Hygiene

Responsible Agency: USDA/FSIS.

U.S. Participation: Yes.

• Natural Mineral Waters

Responsible Agency: HHS/FDA.

U.S. Participation: Yes.

• Vegetable Proteins

Responsible Agency: USDA/ARS.

U.S. Participation: Yes.

FAO/WHO Regional Coordinating Committees

The FAO/WHO Regional Coordinating Committees define the problems and needs of the regions concerning food standards and food control; promote within the Committee contacts for the mutual exchange of information on proposed regulatory initiatives and problems arising from food control and stimulate the strengthening of food control infrastructures; recommend to the Commission the development of worldwide standards for products of interest to the region, including products considered by the Committees to have an international market potential in the future; develop regional standards for food products moving exclusively or almost exclusively in intra-regional trade; draw the attention of the Commission to any aspects of the Commission's work of particular significance to the region; promote coordination of all regional food standards work undertaken by international governmental and non-governmental organizations within each region; exercise a general coordinating role for the region and such other functions as may be entrusted to it by the Commission; and promote the use of Codex standards and related texts by members.

There are six regional coordinating committees:

Coordinating Committee for Africa

Coordinating Committee for Asia

Coordinating Committee for Europe

Coordinating Committee for Latin America and the Caribbean

Coordinating Committee for the Near East

Coordinating Committee for North America and the South West Pacific

Coordinating Committee for Africa

The Committee (CCAfrica) met for its 21st Session in Yaoundé, Cameroon, January 27-30, 2015. The reference document is REP 15/AFRICA. There are no items to be considered for adoption by the Commission at its 38th Session in July 2015.

The Committee will continue working on:

• Proposed draft Standard for dried meat

• Proposed draft Regional Standard for fermented cooked cassava based products

• Proposed draft Regional Standard for Shea Butter

• Proposed draft Regional Standard for Gnetum Spp. Leaves

Responsible Agency: USDA/FSIS.

U.S. Participation: Yes (as observer).

Coordinating Committee for Asia

The Committee (CCAsia) met for its 19th Session in Tokyo, Japan, November 3-7, 2014. The reference document is REP 15/ASIA. The following items are to be considered for adoption by the 38th Session of the Commission in July 2015:

To be considered for adoption at Step 8:

• Draft Regional Standard for Non-Fermented Soybean Products

To be considered for adoption:

• Amendments to sections “Food Additives” and “Methods of Analysis and Sampling” of the Regional Standard for Tempe

To be recommended for discontinuation:

• Draft Strategic Plan for CCASIA 2015-2020

• Discussion paper on edible crickets and their products

The Committee will continue working on:

• Proposed draft Standard for Laver products

• Proposed draft Regional Code of Hygienic Practice for Street-Vended Foods

• Discussion paper on Makgeolli

• Discussion paper on Natto

• Discussion paper on Dried Longan

Responsible Agency: USDA/FSIS.

U.S. Participation: Yes (as observer).

Coordinating Committee for Europe

The Committee (CCEurope) convened its 29th Session in The Hague, the Netherlands, September 30-October 04, 2014. The reference document is REP 15/EURO. There are no items for adoption by the Commission at its 38th Session in July 2015.

The Committee will continue working on:

• Regional Strategic Plan for CCEURO.

To be recommended for discontinuation:

• Proposed draft Regional Standard for Ayran.

Responsible Agency: USDA/FSIS.

U.S. Participation: Yes (as observer).

Coordinating Committee for Latin America and the Caribbean

The Coordinating Committee for Latin America and the Caribbean (CCLAC) convened its 19th Session in San José, Costa Rica, from November 10-14, 2014. The reference document is REP 15/LAC. There are no items for adoption by the Commission at its 38th Session in July 2015.

The Committee will continue working on:

• Proposed draft Regional Standard for Yacon.

Responsible Agency: USDA/FSIS.

U.S. Participation: Yes (as observer).

Coordinating Committee for the Near East

The Committee (CCNEA) convened its 8th Session in Rome, Italy, June 1-5, 2015. There are no items to be considered for adoption by the Commission at its 38th Session in July 2015.

The Committee will continue working on:

• Regional Standard for Doogh

• Proposed draft Regional Standard for Labneh

• Proposed draft Regional Standard for Zaatar

• Discussion paper on a Standard for Camel Milk

• Draft Strategic Plan for CCNEA 2015-2020

• Nomination of Coordinator

Responsible Agency: USDA/FSIS.

U.S. Participation: No.

Coordinating Committee for North America and the South West Pacific (CCNASWP)

The Committee (CCNASWP) convened its 13th Session in Kokopo, Papua New Guinea, September 23-26, 2014. The reference document is REP 15/NASWP. There are no items to be considered for adoption by the Commission at its 38th Session in July 2015.

The Committee will continue working on:

• Proposed draft Standard for Fermented Noni Juice

• Implementation Status of the Strategic Plan for CCNAWSWP 2014-2019

• Discussion paper on kava

• Areas of new work of interest to the Region

Responsible Agency: USDA/FSIS.

U.S. Participation: Yes.

Contact

U.S. Codex Office, United States Department of Agriculture, Room 4861, South Agriculture Building, 1400 Independence Avenue SW., Washington, DC 20250-3700, Phone: (202) 205-7760, Fax: (202) 720-3157, Email: uscodex@fsis.usda.gov.

Attachment 2

U.S. CODEX Alimentarius Officials

CODEX Chairpersons From the United States

Codex Committee on Food Hygiene

Emilio Esteban, DVM, MBA, MPVM, Ph.D., Executive Associate for Laboratory Services, Office of Public Health Science, Food Safety and Inspection Service, U.S. Department of Agriculture, 950 College Station Road, Athens, GA 30605, Phone: (706) 546-3429, Fax: (706) 546-3428, Email: emilio.esteban@fsis.usda.gov.

Codex Committee on Processed Fruits and Vegetables

Richard Boyd, Chief, Contract Services Branch, Specialty Crops Inspection Division, Fruit and Vegetable Program, Agricultural Marketing Service, U.S. Department of Agriculture, 1400 Independence Avenue SW., Mail Stop 0247, Room 0726-South Building, Washington, DC 20250, Phone: (202) 690-1201, Fax: (202) 690-1527, Email: richard.boyd@ams.usda.gov.

Codex Committee on Residues of Veterinary Drugs in Foods

Steven D. Vaughn, DVM, Director, Office of New Animal Drug Evaluation, Center for Veterinary Medicine, U.S. Food and Drug Administration, MPN 2, Room 236, 7520 Standish Place, Rockville, Maryland 20855, Phone: (240) 402-0571, Fax: (240) 276-8242 Steven.Vaughn@fda.hhs.gov.

U.S. Delegates and Alternate Delegates

General Subject Committees

Commodity Committees (Active and Adjourned)

AdHoc Task Forces

Regional Coordinating Committees

Worldwide General Codex Subject Committees

Contaminants in Foods (Host Government—The Netherlands)

U.S. Delegate

Nega Beru, Ph.D., Director, Office of Food Safety (HFS-300), Center for Food Safety and Applied Nutrition, U.S. Food and Drug Administration, 5100 Paint Branch Parkway, College Park, MD 20740, Phone: +1 (240) 402-1700, Fax: +1 (301) 436-2651, Nega.Beru@fda.hhs.gov.

Alternate Delegate

Kerry Dearfield, Ph.D., Chief Scientist, Office of Public Health Science, Food Safety and Inspection Service, U.S. Department of Agriculture, Room 9-195, PP 3 (Mail Stop 3766), 1400 Independence Avenue SW., Washington, DC 20250, Phone: +1 (202) 690-6451, Fax: +1 (202) 690-6337, Kerry.Dearfield@fsis.usda.gov.

Food Additives (Host Government—China)

U.S. Delegate

Susan E. Carberry, Ph.D., Supervisory Chemist, Division of Petition Review, Office of Food Additive Safety (HFS-265), Center for Food Safety and Applied Nutrition, U.S. Food and Drug Administration, 5100 Paint Branch Parkway, College Park, MD 20740, Phone: +1 (240) 402-1269, Fax: +1 (301) 436-2972, Susan.Carberry@fda.hhs.gov.

Alternate Delegate

Paul S. Honigfort, Ph.D., Consumer Safety Officer, Division of Food Contact Notifications (HFS-275), Office of Food Additive Safety, U.S. Food and Drug Administration, 5100 Paint Branch Parkway, College Park, MD 20740, Phone: +1 (240) 402-1206, Fax: +1 (301) 436-2965, Paul.Honigfort@fda.hhs.gov.

Food Hygiene (Host Government—United States)

U.S. Delegate

Jenny Scott, Senior Advisor, Office of Food Safety, Center for Food Safety and Applied Nutrition, U.S. Food and Drug Administration, 5100 Paint Branch Parkway, HFS-300, Room 3B-014, College Park, MD 20740-3835, Phone: +1 (240) 402-2166, Fax: +1 (301) 436-2632, Jenny.Scott@fda.hhs.gov.

Alternate Delegates

Kerry Dearfield, Ph.D., Chief Scientist, Office of Public Health Science, Food Safety and Inspection Service, U.S. Department of Agriculture, Room 9-195, PP 3 (Mail Stop 3766), 1400 Independence Avenue SW., Washington, DC 20250, Phone: +1 (202) 690-6451, Fax: +1 (202) 690-6337, Kerry.Dearfield@fsis.usda.gov.

Andrew Chi Yuen Yeung, Ph.D., Consumer Safety Officer, Center for Food Safety and Applied Nutrition, U.S. Food and Drug Administration, 5100 Paint Branch Parkway, HFS-316, College Park, MD 20740, Phone: +1 (240) 402-1541, Fax: +1 (301) 436-2632, Andrew.Yeung@fda.hhs.gov.

Food Import and Export Certification and Inspection Systems (Host Government—Australia)

U.S. Delegate

Mary Stanley, Director, Office of International Coordination, Food Safety and Inspection Service, U.S. Department of Agriculture, Room 2925, South Agriculture Building, 1400 Independence Avenue SW., Washington, DC 20250, Phone: +1 (202) 720-0287, Fax: +1 (202) 720-4929, Mary.Stanley@fsis.usda.gov.

Alternate Delegate

Vacant

Food Labelling (Host Government—Canada)

U.S. Delegate

Felicia B. Billingslea, Director, Food Labeling and Standards Staff, Office of Nutrition, Labeling, and Dietary Supplements, Center for Food Safety and Applied Nutrition, U.S. Food and Drug Administration, 5100 Paint Branch Parkway (HFS-820), College Park, MD 20740, Phone: +1 (240) 402-2371, Fax: +1 (301) 436-2636, felicia.billingslea@fda.hhs.gov.

Alternate Delegate

Jeffrey Canavan, Deputy Director, Labeling and Program Delivery Staff, Food Safety and Inspection Service, U.S. Department of Agriculture, 1400 Independence Avenue SW., Stop 5273, Patriots Plaza 3, 8th Floor-161A, Washington, DC 20250, Phone: +1 (301) 504-0860, Fax: +1 (202) 245-4792, jeff.canavan@fsis.usda.gov.

General Principles (Host Government—France)

Delegate Note: A member of the Steering Committee heads the delegation to meetings of the General Principles Committee.

Methods of Analysis and Sampling (Host Government—Hungary)

U.S. Delegate

Gregory O. Noonan, Ph.D., Director, Division of Bioanalytical Chemistry, Division of Analytical Chemistry, Center for Food Safety and Applied Nutrition, Food and Drug Administration, 5100 Paint Branch Parkway, College Park, MD 20740, Phone: +1 (240) 402-2250, Fax: +1 (301) 436-2332, Gregory.Noonan@fda.hhs.gov.

Alternate Delegate

Dr. Timothy Norden, Branch Chief, Grain Inspection, Packers and Stockyards Administration (GIPSA), Technology & Science Division, U.S. Department of Agriculture, 10383 Ambassador Drive, Kansas City, MO, USA 64153, Phone: +1 (816) 891-0470, Fax: +1 (816) 891-8070, timothy.d.norden@gipsa.usda.gov.

Nutrition and Foods for Special Dietary Uses (Host Government—Germany)

U.S. Delegate

Paula R. Trumbo, Ph.D., Nutrition Programs, Office of Nutrition, Labeling and Dietary Supplements, Center for Food Safety and Applied Nutrition, U.S. Food and Drug Administration, 5100 Paint Branch Parkway HFS-830, College Park, MD 20740, Phone: +1 (240) 402-2579, Fax: +1 (301) 436-1191, Paula.Trumbo@fda.hhs.gov.

Alternate Delegate

Pamela R. Pehrsson, Ph.D., Research Leader, U.S. Department of Agriculture, Agricultural Research Service, Nutrient Data Laboratory, Room 105, Building 005, BARC-West, 110300 Baltimore Avenue, Beltsville, MD 20705, Phone: +1 (301) 504-0630, Fax: +1 (301) 504-0632, pamela.pehrsson@ars.usda.gov.

Pesticide Residues (Host Government—China)

U.S. Delegate

Ms. Barbara Madden, Lead Biologist/Minor Use Team Leader, Office of Pesticide Programs, U.S. Environmental Protection Agency, Ariel Rios Building, 1200 Pennsylvania Avenue NW., Washington, DC 20460, Phone: +1 (703) 305-6463, Fax: +1 (703) 305-6920, madden.barbara@epa.gov.

Alternate Delegate

Dr. Pat Basu, Senior Leader, Chemistry, Toxicology & Related Sciences, Office of Public Health Science, Food Safety and Inspection Service, U.S. Department of Agriculture, Patriots Plaza III, Room 9-205, 1400 Independence Ave. SW., Washington, DC 20250-3766, Phone: +1 (202) 690-6558, Fax: +1 (202) 690-2364, Pat.Basu@fsis.usda.gov.

Residues of Veterinary Drugs in Foods (Host Government—United States)

U.S. Delegate

Dr. Kevin Greenlees, Senior Advisor for Science & Policy, Office of New Animal Drug Evaluation, HFV-100, Center for Veterinary Medicine, U.S. Food and Drug Administration, 7500 Standish Place, Rockville, MD 20855, Phone: +1 (240) 402-0638, Fax: +1 (240) 276-9538, kevin.greenlees@fda.hhs.gov.

Alternate Delegate

Dr. Charles Pixley, DVM, Ph.D., Director, Laboratory Quality Assurance Staff, Office of Public Health Science, Food Safety and Inspection Service, U.S. Department of Agriculture, 950 College Station Road, Athens, GA 30605, Phone: +1 (706) 546-3559, Fax: +1 (706) 546-3452, charles.pixley@fsis.usda.gov.

Worldwide Commodity Codex Committees (Active)

Fats and Oils (Host Government—Malaysia)

U.S. Delegate

Dr. Paul South, Acting Director, Division of Plant Products and Beverages, Office of Food Safety (HFS-317), Center for Food Safety and Applied Nutrition, U.S. Food and Drug Administration, 5100 Paint Branch Parkway, College Park, MD, USA 20740-3835, Phone: +1 (240) 402-1640, Fax: +1 (301) 436-2632, Paul.South@fda.hhs.gov.

Alternate Delegate

Robert A. Moreau, Ph.D., Research Leader, Eastern Regional Research Center, Agricultural Research Service, U.S. Department of Agriculture, 600 East Mermaid Lane, Wyndmoor, PA 19038, Phone: +1 (215) 233-6428, Fax: +1 (215) 233-6406, robert.moreau@ars.usda.gov.

Fish and Fishery Products (Host Government—Norway)

U.S. Delegate

Dr. William Jones, Director, Division of Seafood Safety, Office of Food Safety (HFS- 325), U.S. Food and Drug Administration, 5100 Paint Branch Parkway, College Park, MD 20740, Phone: +1 (240) 402-2300, Fax: +1 (301) 436-2601, William.Jones@fda.hhs.gov.

Alternate Delegate

Vacant

Fresh Fruits and Vegetables (Host Government—Mexico)

U.S. Delegate

Dorian LaFond, International Standards Coordinator, Fruit and Vegetables Program, Specialty Crop Inspection Division, Agricultural Marketing Service, U.S. Department of Agriculture, Stop 0247, South Agriculture Building, 1400 Independence Avenue SW., Washington, DC 20250-0247, Phone: +1 (202) 690-4944, Fax: +1 (202) 690-1527, dorian.lafond@usda.gov.

Alternate Delegate

Samir K. Assar, Ph.D., Director, Produce Safety Staff, Office of Food Safety, Food and Drug Administration, Phone: +1 (240) 402-1636, Samir.Assar@fda.hhs.gov.

Processed Fruits and Vegetables (Host Government—United States)

U.S. Delegate

Dorian LaFond, International Standards Coordinator, Fruit and Vegetables Program, Specialty Crop Inspection Division, Agricultural Marketing Service, U.S. Department of Agriculture, Stop 0247, South Agriculture Building, 1400 Independence Avenue SW., Washington, DC 20250-0247, Phone: +1 (202) 690-4944, Fax: +1 (202) 690-1527, Dorian.Lafond@usda.gov.

Alternate Delegate

Yinqing Ma, Ph.D., Consumer Safety Officer, Office of Food Safety (HFS-317), Center for Food Safety and Applied Nutrition, U.S. Food and Drug Administration, 5100 Paint Branch Parkway, College Park, MD 20740, Phone: +1 (240) 402-2479, Fax: +1 (301) 436-2632, Yinqing.Ma@fda.hhs.gov.

Spices and Culinary Herbs (Host Government—India)

U.S. Delegate

Dorian LaFond, International Standards Coordinator, Fruit and Vegetables Program, Specialty Crop Inspection Division, Agricultural Marketing Service, U.S. Department of Agriculture, Stop 0247, South Agriculture Building, 1400 Independence Avenue SW., Washington, DC 20250-0247, Phone: +1 (202) 690-4944, Fax: +1 (202) 690-1527, Dorian.Lafond@usda.gov

Alternate Delegate

George C. Ziobro, Ph.D., Dairy and Egg Branch, HFS-316, Division of Plant and Dairy Food Safety, Office of Food Safety, Center for Food Safety and Applied Nutrition, 5100 Paint Branch Parkway, College Park, MD 20740, Phone: +1 (240) 402-1965, George.Ziobro@fda.hhs.gov.

Worldwide Commodity Codex Committees (Adjourned) Cereals, Pulses and Legumes (Adjourned sine die) (Host Government—United States)

U.S. Delegate

Vacant

Cocoa Products and Chocolate (Adjourned sine die) (Host Government—Switzerland)

U.S. Delegate

Michelle Smith, Ph.D., Food Technologist, Office of Plant and Dairy Foods and Beverages, Center for Food Safety and Applied Nutrition, U.S. Food and Drug Administration (HFS-306), Harvey W. Wiley Federal Building, 5100 Paint Branch Parkway, College Park, MD 20740-3835, Phone: +1 (240) 402-2024, Fax: +1 (301) 436-2651, michelle.smith@fda.hhs.gov.

Meat Hygiene (Adjourned sine die) (Host Government—New Zealand)

U.S. Delegate

Vacant

Milk and Milk Products (Host Government—New Zealand)

U.S. Delegate

Diane D. Lewis, Director, Grading and Standards Division, Dairy Programs, Agricultural Marketing Service, U.S. Department of Agriculture, 1400 Independence Avenue SW., Washington, DC 20250, Phone: +1 (202) 690-0530, Fax: +1 (202) 720-2643, Diane.Lewis@ams.usda.gov.

Alternate Delegate

John F. Sheehan, Director, Division of Dairy, Egg and Meat Food Safety, Office of Food Safety, Center for Food Safety and Applied Nutrition, U.S. Food and Drug Administration (HFS-3 15), Harvey W. Wiley Federal Building, 5100 Paint Branch Parkway, College Park, MD 20740, Phone: +1 (240) 402-1488, Fax: +1 (301) 436-2632, john.sheehan@fda.hhs.gov.

Natural Mineral Waters (Adjourned sine die) (Host Government—Switzerland)

U.S. Delegate

Lauren Posnick Robin, Sc.D., Review Chemist, Office of Food Safety, Center for Food Safety and Applied Nutrition, U.S. Food and Drug Administration, Harvey W. Wiley Federal Building, 5100 Paint Branch Parkway, College Park, MD 20740-3835, Phone: +1 (240) 402-1639, Fax: +1 (301) 436-2632, Lauren.Robin@fda.hhs.gov.

Sugars (Host Government—United Kingdom)

U.S. Delegate

Vacant

Vegetable Proteins (Adjourned sine die)

U.S. Delegate

Vacant

Ad Hoc Intergovernmental Task Forces Animal Feeding (Host Government—Switzerland)

U.S. Delegate

Daniel G. McChesney, Ph.D., Director, Office of Surveillance & Compliance, Center for Veterinary Medicine, U.S. Food and Drug Administration, 7529 Standish Place, Rockville, MD 20855, Phone: +1 (240) 453-6830, Fax: +1 (240) 453-6880, Daniel.McChesney@fda.hhs.gov.

Alternate Delegate

Dr. Patty Bennett, Branch Chief, Risk Assessment Division, Office of Public Health Science, Food Safety and Inspection Service, U.S. Department of Agriculture, 901 Aerospace Center, Washington, DC 20250, Phone: +1 (202) 690-6189, patty.bennett@fsis.usda.gov.

Antimicrobial Resistance (Host government—Republic of Korea)

U.S. Delegate

David G. White, M.S., Ph.D., Director, Office of Research, U.S. Food and Drug Administration, Center for Veterinary Medicine, 8401 Muirkirk Road, Laurel, MD 20708, Phone: +1 (301) 210-4187, Fax: +1 (301) 210-4685, David.White@fda.hhs.gov.

Alternate Delegate

Neena Anandaraman, DVM, MPH, Veterinary Medical Officer, Applied Epidemiology Division, Office of Public Health Science, Food Safety and Inspection Service, U.S. Department of Agriculture, Stop 3777, PP3, 9-241B, 1400 Independence Avenue SW., Washington, DC 20250, Phone: +1 (202) 690-6429, Fax: +1 (202) 690-6364, neena.anandaraman@fsis.usda.gov.

[FR Doc. 2015-14306 Filed 6-10-15; 8:45 am]

BILLING CODE 3410-DM-P